DEPARTMENT OF STATE

[Public Notice 11878]

60-Day Notice of Proposed Information Collection: Department of State Acquisition Regulation (DOSAR)

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to 60 days after the date of publication in the Federal Register.

ADDRESSES: You may submit comments by any of the following methods:

• Web: Persons with access to the internet may comment on this notice by going to www.Regulations.gov. You can search for the document by entering “Docket Number: DOS-2022-0033” in the Search field. Then click the “Comment Now” button and complete the comment form.

• Email: acquisitionpolicy@state.gov and/or schroederhr@state.gov.

You must include the -DS form number (if applicable), information collection title, and the OMB control number in any correspondence.

FOR FURTHER INFORMATION CONTACT: Direct requests for additional information regarding the collection listed in this notice, including requests for copies of the proposed collection instrument and supporting documents, to Hilary Schroeder, who may be reached on (202) 890-9798 or at schroederhr@state.gov.

SUPPLEMENTARY INFORMATION: • Title of Information Collection: Department of State Acquisition Regulation (DOSAR).

• OMB Control Number: 1405-0050.

• Type of Request: Extension of a Currently Approved Collection.

• Originating Office: A/OPE/AP/SCPD.

• Form Number: No form.

• Respondents: Offerors and awardees of Department of State solicitations and contracts.

• Estimated Number of Respondents: 2,897.

• Estimated Number of Responses: 3,095.

• Average Time per Response: 82 hours.

• Total Estimated Burden Time: 253,416 hours.

• Frequency: On occasion.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This collection includes DOSAR provisions and clauses implemented via solicitations and contracts to ensure offerors meet qualifications and awardees meet specific post-award requirements.

Methodology

Information is collected electronically.

Sharon D. James,
Acting Office Director, Office of the Procurement Executive, Office of Acquisition Policy (A/OPE/OAP), Department of State.

[FR Doc. 2022-21749 Filed 10-5-22; 8:45 am]

BILLING CODE 4710-24-P